DEPARTMENT OF STATE

[Public Notice 5430]

60-Day Notice of Proposed Information Collection: DS-3052, Nonimmigrant V Visa Application, OMB Control Number 1405-0128

ACTION: Notice of request for public comment.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Nonimmigrant V Visa Application.

• OMB Control Number: 1405-0128.

• Type of Request: Extension of Currently Approved Collection.

• Originating Office: Consular Affairs, Office of Visa Services (CA/VO/L/R).

• Form Number: DS-3052.

• Respondents: Applicants for V nonimmigrant visa.

• Estimated Number of Respondents: 1,500.

• Estimated Number of Responses: 1,500.

• Average Hours Per Response: 1 hour.

• Total Estimated Burden: 1,500 hours.

• Frequency: Once per respondent.

• Obligation to Respond: Required to Obtain or Retain Benefit.

DATES: The Department will accept comments from the public up to 60 days from June 1, 2006.

ADDRESSES: You may submit comments by any of the following methods:

• E-mail: VisaReg@state.gov. (The subject line must be DS-3052 Reauthorization)

• Mail (paper, disk, or CD-ROM submission): Chief, Legislation and Regulation Division, Visa Services—DS-3052 Reauthorization, Department of State, Washington, DC 20520-0106.

• Fax: (202) 663-3898. (The subject line must be DS-3052 Reauthorization.)

FOR FURTHER INFORMATION CONTACT: Direct requests for additional information regarding the collection listed in this notice, including requests for copies of proposed information collection and supporting documents, to Andrea Lage, Office of Visa Services, U.S. Department of State, 2401 E St., NW., L-603, Washington, DC 20520, who may be reached at (202) 663-1399 or lageab@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection: The V Visa application (Form DS-3052) is used to collect information on second preference spouses and children of permanent residents for whom petitions were filed on or before December 12, 2000, and who have been waiting for three or more years for petition approval, adjustment of status or an immigrant visa, who are applying for a nonimmigrant visa to enter the United States. The form requests biographical information on the applicant and information on the immigration petition that was filed on the applicant's behalf. Consular officers use the information on this form to determine eligibility for V Visa status.

Methodology: DS-3052 is submitted to U.S. embassies and consulates overseas and is available online at http://www.state.gov. The form can be filled out online and then printed. At some later date the Department of State may incorporate electronic filing of this form, but that service is not available at this time.

Dated: May 10, 2006.
Stephen A. Edson,
Deputy Assistant Secretary of State for Visa Services, Bureau of Consular Affairs, Department of State.

[FR Doc. E6-8520 Filed 5-31-06; 8:45 am]

BILLING CODE 4710-06-P